TENNESSEE VALLEY AUTHORITY

Renewal of the Regional Resource Stewardship Council Charter

AGENCY: Tennessee Valley Authority (TVA).

ACTION: Notice of charter renewal.

SUMMARY: Pursuant to the Federal Advisory Committee Act (FACA) (5 U.S.C. Appendix 2), the TVA Board of Directors has renewed the Regional Resource Stewardship Council (Council) charter for an additional two years. The charter for the Ninth Term begins on April 29, 2016.

FOR FURTHER INFORMATION CONTACT: Beth A. Keel, 400 West Summit Hill Drive, WT 9D-K, Knoxville, Tennessee 37902-1499, (865) 632-6113.

SUPPLEMENTARY INFORMATION: Pursuant to FACA and its implementing regulations, and following consultation with the Committee Management Secretariat, General Services Administration (GSA), notice is hereby given that the Council has been renewed for a two-year period beginning April 29, 2016. The Council will provide advice to TVA on its issues affecting natural resource stewardship activities.

Numerous public and private entities are traditionally involved in the stewardship of the natural resources of the Tennessee Valley region. The Council was originally established in 1999 to advise TVA on its natural resource stewardship activities through balanced and broad range of diverse views and interests. It has been determined that the Council continues to be needed to provide an additional mechanism for public input regarding stewardship issues.

Dated: March 28, 2016.
Joseph J. Hoagland,
Vice President, Stakeholder Relations, Tennessee Valley Authority.

[FR Doc. 2016-08112 Filed 4-7-16; 8:45 am]

BILLING CODE 8120-08-P